ENVIRONMENTAL PROTECTION AGENCY

40 CFR Part 52

[R09-OAR-2005-CA-0004; FRL-7932-4]

Correction to the California State Implementation Plan, South Coast Air Quality Management District

AGENCY: Environmental Protection Agency (EPA).

ACTION: Proposed rule.

SUMMARY: EPA is proposing to delete a provision from the California State Implementation Plan (SIP) that was approved into the SIP in error. This provision is part of a rule concerning emissions of volatile organic compounds (VOC) from solvent cleaning operations. EPA has determined that the continued presence of this provision in the SIP is potentially confusing and thus harmful to affected sources, local agencies and to EPA. The intended effect of this proposal is to delete this provision and make the federally enforceable SIP consistent with the SIP as adopted and submitted by the State of California.

DATES: Any comments on this proposal must arrive by August 1, 2005.

ADDRESSES: Submit comments, identified by docket number R09-OAR-2005-CA-0004, by one of the following methods:

1. Agency Web site: http://docket.epa.gov/rmepub/. EPA prefers receiving comments through this electronic public docket and comment system. Follow the on-line instructions to submit comments.

2. Federal eRulemaking Portal: http://www.regulations.gov. Follow the on-line instructions.

3. E-mail: steckel.andrew@epa.gov.

4. Mail or deliver: Andrew Steckel (Air-4), U.S. Environmental Protection Agency Region IX, 75 Hawthorne Street, San Francisco, CA 94105-3901.

Instructions: All comments will be included in the public docket without change and may be made available online at http://docket.epa.gov/rmepub/, including any personal information provided, unless the comment includes Confidential Business Information (CBI) or other information whose disclosure is restricted by statute. Information that you consider CBI or otherwise protected should be clearly identified as such and should not be submitted through the agency website, eRulemaking portal or e-mail. The agency website and eRulemaking portal are “anonymous access” systems, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://docket.epa.gov/rmepub and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Francisco Dóñez, EPA Region IX, (415) 972-3956, Donez.Francisco@epa.gov.

SUPPLEMENTARY INFORMATION: This proposal addresses South Coast Air Quality Management District (SCAQMD) Rule 1171. In the Rules and Regulations section of this Federal Register, we are taking direct final action to delete a provision from this rule under section 110(k)(6) of the Clean Air Act, which provides EPA authority to correct the SIP without additional State submission. We are deleting this provision without prior proposal because we believe this SIP correction is not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: June 16, 2005.
Wayne Nastri,
Regional Administrator, Region IX.

[FR Doc. 05-13053 Filed 6-30-05; 8:45 am]

BILLING CODE 6560-50-P